ENVIRONMENTAL PROTECTION AGENCY

[ER-FRL-9055-7]

Environmental Impact Statements; Notice of Availability

Responsible Agency: Office of Federal Activities, General Information 202-564-5632 or https://www.epa.gov/nepa.

Weekly receipt of Environmental Impact Statements (EIS) Filed March 8, 2021 10 a.m. EST Through March 15, 2021 10 a.m. EST Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20210030, Final, USAF, SD, B-21 Main Operating Base 1 (MOB 1) Beddown at Dyess AFB, Texas or Ellsworth AFB, South Dakota, Review Period Ends: 04/19/2021, Contact: Julianne Turko 210-925-3777.

EIS No. 20210031, Final, FAA, NY, LaGuardia Access Improvement Program, Review Period Ends: 04/19/2021, Contact: Andrew Brooks 718-553-2511.

EIS No. 20210032, Final, NMFS, CA, ADOPTION—Placer County Conservation Program Final Environmental Impact Statement/Environmental Impact Report, Contact: Neal McIntosh 916-930-5647. The National Marine Fisheries Service (NMFS) has adopted the U.S. Fish and Wildlife Service (USFWS) Final EIS No. 20200107, filed 5/14/2020 with EPA. NMFS was a cooperating agency on this project. Therefore, republication of the document is not necessary under Section 1506.3(b)(2) of the CEQ regulations.

Amended Notice

EIS No. 20210003, Draft, BLM, CA, WITHDRAWN—Desert Plan Amendment Draft Land Use Plan Amendment and Draft Environmental Impact Statement, Contact: Jeremiah Karuzas 916-978-4644. Revision to FR Notice Published 01/15/2021; Officially Withdrawn per request of the submitting agency.

EIS No. 20210010, Draft, FRA, MD, Draft Environmental Impact Statement and Draft Section 4(f) Evaluation Baltimore-Washington Superconducting MAGLEV Project, Comment Period Ends: 05/24/2021, Contact: Brandon Bratcher 202-493-0844. Revision to FR Notice Published 01/22/2021; Extending the Comment Period from 04/22/2021 to 05/24/2021.

Dated: March 15, 2021.
Cindy S. Barger,
Director, NEPA Compliance Division, Office of Federal Activities.

[FR Doc. 2021-05748 Filed 3-18-21; 8:45 am]

BILLING CODE 6560-50-P